DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Sanctions Compliance & Evaluation, tel.: 202-622-2490; Assistant Director for Licensing, tel.: 202-622-2480; or the Assistant Director for Regulatory Affairs, tel. 202-622-4855.

SUPPLEMENTARY INFORMATION:

Electronic Availability

The Specially Designated Nationals and Blocked Persons List and additional information concerning OFAC sanctions programs are available on OFAC's website (www.treasury.gov/ofac).

Notice of OFAC Actions

On August 19, 2021, OFAC determined that the property and interests in property subject to U.S. jurisdiction of the following persons are blocked under the relevant sanctions authority listed below.

Individuals:

1. JIMENEZ GONZALEZ, Abelardo (a.k.a. JIMENEZ GONZALEZ, Roberto Abelardo); Infanta 1506 Santa Rosa Y Estevez, Cerro, Cuba; DOB 22 Feb 1952; nationality Cuba; Gender Male; National ID No. 52022201646 (Cuba) (individual) [GLOMAG].

Designated pursuant to section 1(a)(iii)(B) of Executive Order 13818 of December 20, 2017, “Blocking the Property of Persons Involved in Serious Human Rights Abuse or Corruption” (E.O. 13818) for having acted or purported to act for or on behalf of, directly or indirectly, the MINISTRY OF INTERIOR*, a person whose property and interests in property are blocked pursuant to E.O. 13818.

2. GONZALEZ BRITO, Andres Laureano (Latin: GONZÁLEZ BRITO, Andrés Laureano); Havana, Cuba; DOB 04 Jul 1954; POB Barajagua, Las Villas, Cuba; alt. POB Barajagua, Cienfuegos, Cuba; nationality Cuba; Gender Male; Chief, Central Army (individual) [GLOMAG].

Designated pursuant to section 1(a)(ii)(C)(1) of E.O. 13818 for being a foreign person who is or has been a leader or official of an entity, including any government entity, that has engaged in, or whose members have engaged in, directly or indirectly, serious human rights abuse relating to the leader's or official's tenure.

3. LEGRA SOTOLONGO, Roberto (Latin: LEGRÁ SOTOLONGO, Roberto); Havana, Cuba; DOB 1955; POB Baracoa, Cuba; nationality Cuba; Gender Male; Deputy Chief of the General Staff Revolutionary Armed Forces and Chief of the Directorate of Operations of the FAR (individual) [GLOMAG].

Designated pursuant to section 1(a)(ii)(C)(1) of E.O. 13818 for being a foreign person who is or has been a leader or official of an entity, including any government entity, that has engaged in, or whose members have engaged in, directly or indirectly, serious human rights abuse relating to the leader's or official's tenure.

Dated: August 19, 2021.
Bradley T. Smith,
Acting Director, Office of Foreign Assets Control, U.S. Department of the Treasury.

[FR Doc. 2021-18400 Filed 8-25-21; 8:45 am]

BILLING CODE 4810-AL-P